LIBRARY OF CONGRESS

Copyright Royalty Board

[Docket Nos. 17-0008-CRB-AU and 17-0009-CRB-AU]

Notice of Intent To Audit

AGENCY: Copyright Royalty Board, Library of Congress.

ACTION: Public notice.

SUMMARY: The Copyright Royalty Judges announce receipt of two notices of intent to audit the 2013, 2014, and 2015 statements of account submitted by broadcasters Cox Radio (Docket No. 17-CRB-0009-AU) and Hubbard Broadcasting (Docket No. 17-CRB-0008-AU) concerning royalty payments each made pursuant to two statutory licenses.

FOR FURTHER INFORMATION CONTACT: Anita Brown, Program Specialist, by telephone at (202) 707-7658 or by email at crb@loc.gov.

SUMMARY INFORMATION: The Copyright Act, title 17 of the United States Code, grants to copyright owners of sound recordings the exclusive right to publicly perform sound recordings by means of certain digital audio transmissions, subject to limitations. Specifically, the right is limited by the statutory license in section 114 which allows nonexempt noninteractive digital subscription services, eligible nonsubscription services, and preexisting satellite digital audio radio services to perform publicly sound recordings by means of digital audio transmissions. 17 U.S.C. 114(f). In addition, a statutory license in section 112 allows a service to make necessary ephemeral reproductions to facilitate the digital transmission of the sound recording. 17 U.S.C. 112(e).

Licensees may operate under these licenses provided they pay the royalty fees and comply with the terms set by the Copyright Royalty Judges. The rates and terms for the section 112 and 114 licenses are set forth in 37 CFR parts 380 and 382-84.

As part of the terms set for these licenses, the Judges designated SoundExchange, Inc., as the Collective, i.e., the organization charged with collecting the royalty payments and statements of account submitted by eligible nonsubscription services such as broadcasters and with distributing the royalties to copyright owners and performers entitled to receive them. See 37 CFR 380.33(b)(1).

As the designated Collective, SoundExchange may, once during a calendar year, conduct an audit of a licensee for any or all of the prior three years in order to verify royalty payments. SoundExchange must first file with the Judges a notice of intent to audit a licensee and deliver the notice to the licensee. See 37 CFR 380.35.

On December 22, 2016, SoundExchange filed with the Judges notices of intent to audit licensee broadcasters Cox Radio, Inc., and Hubbard Broadcasting, Inc., for 2013-15. The Judges must publish notice in the Federal Register within 30 days of receipt of a notice announcing the Collective's intent to conduct an audit. See 37 CFR 380.35(c). Today's notice fulfills this requirement with respect to SoundExchange's December 22, 2016 notices of intent to audit.

Dated: January 13, 2017.
Suzanne M. Barnett,
Chief Copyright Royalty Judge.

[FR Doc. 2017-01319 Filed 1-19-17; 8:45 am]

BILLING CODE 1410-72-P